DEPARTMENT OF STATE

Bureau of Diplomatic Security

[Public Notice 5382]

Customs Clearance Requirements of Foreign Missions and Freight Forwarders

AGENCY: Department of State.

ACTION: Notice.

SUMMARY: The Department of State has determined, under the Foreign Missions Act, that any shipment sent from abroad to any foreign diplomatic or consular mission, or its personnel must be cleared by U.S. Customs and Border Protection solely through the Department of State's diplomatic customs clearance procedure and form. This decision makes it unlawful for any person or entity (i.e. freight forwarders) to assist foreign missions in clearing shipments through customs by any other means. It clearly states that private entities as well as foreign missions are required to comply with the Department of State's diplomatic customs clearance procedure and it is the intended effect of this rule to increase such compliance.

DATES: Effective Date: April 25, 2006.

FOR FURTHER INFORMATION CONTACT: Technical information: Cliff Seagroves, 202-895-3541, seagrovescc@state.gov.

Legal information: Susan Benda, 202-647-0308, bendas@state.gov.

SUPPLEMENTARY INFORMATION: The Foreign Missions Act defines a foreign mission's acquisition of “services relating to customs” as a “benefit”. 22 U.S.C. 4302(a)(1)(B). By virtue of Delegation of Authority 214, the Director of the Department of State's Office of Foreign Mission has the authority to make a determination limiting they way in which a foreign mission may obtain a “benefit”. Such a determination may also make it “unlawful for any person to make available any benefits to a foreign mission” except in accordance with OFM requirements. 22 U.S.C. 4311(a).

Dated: April 18, 2006.
Richard J. Griffin,
Director, Office of Foreign Missions, Department of State.

[FR Doc. E6-6184 Filed 4-24-06; 8:45 am]

BILLING CODE 4710-43-P